DEPARTMENT OF ENERGY

Federal Energy Regulatory Commission

[Docket Nos. RP04-44-000 and 001]

Wyoming Interstate Company, Ltd.; Notice of Proposed Changes in FERC Gas Tariff

November 13, 2003.

Take notice that on October 31, 2003 and November 4, 2003, Wyoming Interstate Company, Ltd. (WIC) tendered for filing as part of its FERC Gas Tariff, Second Revised Volume No. 2, Substitute Eleventh Revised Sheet No. 4B, to become effective December 1, 2003.

WIC states that in its October 31, 2003 filing, it discovered that a minor error was made in calculating the FL&U rates submitted in its filing. WIC states that it mistakenly did not attribute L&U to WIC's Powder River system.

WIC states that the filing November 4, 2003 filing contains the corrected calculation of the WIC FL&E rates and attributes L&U to the Powder River system WIC therefore asks that the November 4 filing be substituted in its entirely for the FL&U filing noted above.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “Library”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's web site under the “e-Filing” link.

Magalie R. Salas,
Secretary.

[FR Doc. E3-00327 Filed 11-20-03; 8:45 am]

BILLING CODE 6717-01-P